DEPARTMENT OF HEALTH AND HUMAN SERVICES

Meeting of the National Biodefense Science Board

AGENCY: Office of the Secretary, Department of Health and Human Services.

ACTION: Notice.

SUMMARY: As stipulated by the Federal Advisory Committee Act, the U.S. Department of Health and Human Services is hereby giving notice that the National Biodefense Science Board (NBSB) will be holding a public meeting via teleconference. The meeting is open to the public.

DATES: The NBSB will hold a public meeting on October 28, 2011 from 3 p.m. to 4 p.m. EST. The agenda is subject to change as priorities dictate.

ADDRESSES: The meeting will occur by teleconference. To attend, call 1-866-395-4129, pass-code “ASPR.” Please call 15 minutes prior to the beginning of the conference call to facilitate attendance. Individuals who wish to participate should send an email to NBSB@HHS.GOV with “NBSB Registration” in the subject line.

FOR FURTHER INFORMATION CONTACT: E-mail: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary and/or the Assistant Secretary for Preparedness and Response on other matters related to public health emergency preparedness and response.

Background: The majority of this public meeting teleconference will be dedicated to a discussion of the report and recommendations from the NBSB's Anthrax Vaccine Working Group. Subsequent agenda topics will be added as priorities dictate. Any additional agenda topics will be available on the Board's October meeting Web page prior to the public meeting.

Availability of Materials: The meeting agenda and materials will be posted prior to the meeting on the October meeting Web page at http://www.phe.gov/preparedness/legal/boards/nbsb/pages/default.aspx.

Procedures for Providing Public Input: Members of the public are invited to attend by teleconference via a toll-free call-in phone number. The teleconference will be operator assisted to allow the public the opportunity to provide comments to the Board. Public participation will be limited to time and space available. Public comments will be limited to no more than 3 minutes per speaker. To be placed on the public comment list, notify the operator when you join the teleconference.

Public comments received by close of business one week prior to each teleconference will be distributed to the NBSB in advance. Submit comments via email to NBSB@HHS.GOV, with “NBSB Public Comment” as the subject line.

Dated: October 5, 2011.
Nicole Lurie,
Assistant Secretary for Preparedness and Response.

[FR Doc. 2011-26389 Filed 10-12-11; 8:45 am]

BILLING CODE 4150-37-P